DEPARTMENT OF TRANSPORTATION

Federal Aviation Administration

14 CFR Part 39

[Docket No. 2001-CE-37-AD; Amendment 39-13097; AD 2003-07-01]

RIN 2120-AA64

Airworthiness Directives; Quality Aerospace, Inc. S2R Series and Model 600 S2D Airplanes

AGENCY: Federal Aviation Administration, DOT.

ACTION: Final rule.

SUMMARY: This amendment supersedes Airworthiness Directive (AD) 2000-11-16, which currently applies to certain Quality Aerospace, Inc. (Quality Aerospace) (formerly Ayres Corporation) S2R series and Model 600 S2D airplanes. AD 2000-11-16 requires you to repetitively inspect the ¼-inch and 5/16-inch bolt hole areas on the lower spar caps for fatigue cracking; replace or repair any lower spar cap where fatigue cracking is found; and report any fatigue cracking found. AD 2000-11-16 resulted from an accident of an Ayres S2R series airplane where the wing separated from the airplane in flight. Since AD 2000-11-16, additional airplanes have been identified that were manufactured with a similar design to those affected by the AD and a third repair option has been developed. This AD retains the repetitive inspections and replacement (if necessary) requirements of the lower spar caps that are currently required in AD 2000-11-16, adds additional airplanes to the Applicability of the AD, and adds a third repair option. The actions specified by this AD are intended to detect and correct fatigue cracking of the lower spar caps, which could result in the wing separating from the airplane with consequent loss of control of the airplane.

DATES: This AD becomes effective on May 20, 2003.

The Director of the Federal Register previously approved the incorporation by reference of Ayres Service Bulletin No. SB-AG-39, dated September 17, 1996; Ayres Custom Kit No. CK-AG-29, dated December 23, 1997, as of July 25, 2000 (65 FR 36055, June 7, 2000).

The Director of the Federal Register approved the incorporation by reference of Quality Aerospace, Inc. Custom Kit No. CK-AG-30, dated December 6, 2001, as of May 20, 2003.

ADDRESSES: You may get the service information referenced in this AD from Quality Aerospace, Inc., P.O. Box 3050, Albany, Georgia 31706-3050; telephone: (229) 883-1440; facsimile: (229) 883-9790. You may view this information at the Federal Aviation Administration (FAA), Central Region, Office of the Regional Counsel, Attention: Rules Docket No. 2001-CE-37-AD, 901 Locust, Room 506, Kansas City, Missouri 64106; or at the Office of the Federal Register, 800 North Capitol Street, NW., suite 700, Washington, DC.

FOR FURTHER INFORMATION CONTACT: Cindy Lorenzen, Aerospace Engineer, FAA, Aircraft Certification Office, One Crown Center, 1895 Phoenix Boulevard, suite 450, Atlanta, Georgia 30349; telephone: (770) 703-6078; facsimile: (770) 703-6097.

SUPPLEMENTARY INFORMATION:

Discussion

What Events Have Caused This AD?

An accident on an Ayres S2R series airplane where the wing separated from the airplane in flight caused us to issue AD 2000-11-16, Amendment 39-11764 (65 FR 36055, June 7, 2000). This AD requires the following on certain Quality Aerospace S2R series and Model 600 S2D airplanes:

• Repetitively inspect the ¼-inch and 5/16-inch bolt hole areas on the lower spar caps for fatigue cracking;

• Replacing or repairing any lower spar cap where fatigue cracking is found; and

• Reporting any fatigue cracking to FAA.

AD 2000-11-16 superseded AD 97-17-03, Amendment 39-10195 (62 FR 43296, August 18, 1997), which required accomplishing the following:

• Inspecting the ¼-inch and 5/16-inch bolt hole areas on the lower spar caps for fatigue cracking;

• Replacing any lower spar cap where fatigue cracking is found; and

• Reporting any fatigue cracking to FAA.

AD 2000-11-16 made the inspections required in AD 97-17-03 repetitive, added additional airplanes to the Applicability of the AD, changed the initial compliance time for all airplanes, and arranged the affected airplanes into six groups based on usage and configuration.

AD 97-17-03 superseded AD 97-13-11, Amendment 39-10071 (62 FR 36978, July 10, 1997), which required accomplishing the following:

• Inspecting the ¼-inch and 5/16-inch bolt hole areas on the lower spar caps for fatigue cracking;

• Replacing any lower spar cap where fatigue cracking is found; and

• Reporting any fatigue cracking to FAA.

AD 97-13-11 incorrectly referenced the Ayres Model S2R-R1340 airplanes as Model S2R-1340R. AD 97-17-03 corrected the model designation and retained the actions of AD 97-13-11.

What Has Happened Since AD 2000-11-16 To Initiate This Action?

Since AD 2000-11-16, FAA has identified additional airplanes with the same type design that should be added to the Applicability of the AD. The manufacturer has issued update service information that gives the owners/operators of the affected airplanes an additional repair option. We have also identified several minor typographical errors in AD 2000-11-16.

What Is the Potential Impact if FAA Took No Action?

This condition, if not corrected, could result in the wing separating from the airplane with consequent loss of control of the airplane.

Has FAA Taken Any Action to This Point?

We issued a proposal to amend part 39 of the Federal Aviation Regulations (14 CFR part 39) to include an AD that would apply to certain Quality Aerospace (formerly Ayres Corporation) S2R series and Model 600 S2D airplanes. This proposal was published in the Federal Register as a notice of proposed rulemaking (NPRM) on November 8, 2002 (67 FR 68047). The NPRM proposed to supersede AD 2000-11-16 with a new AD that would:

• Retain the repetitive inspections and replacement (if necessary) requirements of AD 2000-11-16;

• Add an additional repair option of installing a splice block to improve the chances of salvaging a spar cap that has small cracks in the ¼-inch and 5/16-inch bolt holes; and

• Add additional airplanes to the Applicability of the AD.

Was the Public Invited To Comment?

The FAA encouraged interested persons to participate in the making of this amendment. The following presents the comments received on the proposal and FAA's response to each comment:

Comment Issue: Reference Correct Standard for Magnetic Particle Inspection

What Is the Commenter's Concern?

One commenter states that the American Society for Testing Materials (ASTM) Standard referenced in the proposed AD, ASTM Standard E 1444-94A, should be changed to the updated ASTM Standard E 1444-01. The standard has been updated by the ASTM and the document referenced in the NPRM is outdated.

What Is FAA's Response to the Concern?

We concur with the commenter and will change the final rule AD action to incorporate this change.

FAA's Determination

What Is FAA's Final Determination on This Issue?

We carefully reviewed all available information related to the subject presented above and determined that air safety and the public interest require the adoption of the rule as proposed except for the reference change discussed above and minor editorial corrections. We have determined that these changes and minor corrections:

• Provide the intent that was proposed in the NPRM for correcting the unsafe condition; and

• Do not add any additional burden upon the public than was already proposed in the NPRM.

Cost Impact

How Many Airplanes Does This AD Impact?

We estimate that this AD affects 1,015 airplanes in the U.S. registry.

What Is the Cost Impact of This AD on Owners/Operators of the Affected Airplanes?

We estimate the following costs to accomplish each inspection:

Labor cost | Parts cost | Total cost per airplane | Total cost on U.S. operators
3 workhours × $60 = $180 | $417 | $597 | 1,015 × $597 = $605,955.

We estimate the following costs to accomplish any necessary cold work of bolt holes that will be required based on the results of the inspection. We have no way of determining the number of airplanes that may need such repair:

Labor cost | Parts cost | Total cost per airplane
1 workhour × $60 = $60 | $100 | $160

We estimate the following costs to accomplish any necessary installation of a butterfly splice plate that will be required based on the results of the inspection. We have no way of determining the number of airplanes that may need such installation:

Labor cost | Parts cost | Total cost per airplane
70 workhours × $60 = $4,200 | $700 | $4,900

We estimate the following costs to accomplish any necessary reaming of outer holes to 5/16-inch diameter that will be required based on the results of the inspection. We have no way of determining the number of airplanes that may need such repair:

Labor cost | Parts cost | Total cost per airplane
1 workhour × $60 = $60 | None | $60

We estimate the following costs to accomplish any necessary drilling and reaming of outer holes and adding three holes to install a splice block that will be required based on the results of the inspection. We have no way of determining the number of airplanes that may need such modification:

Labor cost | Parts cost | Total cost per airplane
65 workhours × $60 = $3,900 | $4,100 | $8,000

We estimate the following costs to accomplish any necessary spar cap replacement that will be required based on the results of the inspection. We have no way of determining the number of airplanes that may need such replacement:

Labor cost per spar cap | Parts cost per spar cap | Total cost per spar cap
200 workhours × $60 = $12,000 | $2,316 | $14,316

What Is the Difference Between the Cost Impact of This AD and the Cost Impact of AD 2000-11-16?

The differences between this AD and the cost impact of AD 2000-11-16 are:

• The addition of an optional repair to install a splice block; and

• The addition of 15 airplanes of similar design.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2000-11-16, Amendment 39-11764 (65 FR 36055, June 7, 2000), and by adding a new AD to read as follows:

2003-07-01 Quality Aerospace, Inc. (Ayres Corporation formerly held Type Certificate (TC) No. A4SW): Amendment 39-13097; Docket No. 2001-CE-37-AD; Supersedes AD 2000-11-16, Amendment 39-11764.

(a) What airplanes are affected by this AD? This AD affects the following airplane models and serial numbers that are certificated in any category and do not incorporate a P/N 22507 lower spar cap on both the left and right wings:

Model | Serial Nos. | Group
(1) S-2R | 5000R through 5099R, except 5010R, 5031R, 5038R, 5047R, and 5085R | 1
(2) S2R-G1 | G1-101 through G1-106 | 1
(3) S2R-R1820 | R1820-001 through R1820-035 | 1
(4) S2R-T15 | T15-001 through T15-033 | 1
(5) S2R-T34 | 6000R through 6049R, T34-001 through T34-143, T34-145, T34-147 through T34-167, T34-171, T34-180, and T34-181 | 1
(6) S2R-G10 | G10-101 through G10-136, G10-138, G10-140, and G10-141 | 2
(7) S2R-G5 | G5-101 through G5-105 | 2
(8) S2R-G6 | G6-101 through G6-147 | 2
(9) S2RHG-T65 | T65-002 through T65-018 | 2
(10) S2R-R1820 | R1820-036 | 2
(11) S2R-T34 | T34-144, T34-146, T34-168, T34-169, T34-172 through T34-179, and T34-189 through T34-232, and T34-234 | 2
(12) S2R-T45 | T45-001 through T45-014 | 2
(13) S2R-T65 | T65-001 through T65-018 | 2
(14) 600 S2D | All serial numbers beginning with 600-1311D | 3
(15) S-2R | 1380R and 1416R through 2592R | 3
(16) S2R-R1340 | R1340-001 through R1340-035 | 3
(17) S2R-R3S | R3S-001 through R3S-011 | 3
(18) S2R-T11 | T11-001 through T11-005 | 3
(19) S2R-G1 | G1-107, G1-108, and G1-109 | 4
(20) S2R-G10 | G10-137, G10-139, and G10-142 | 4
(21) S2R-T34 | T34-236, T34-237, and T34-238 | 4
(22) S2R-G1 | G1-110 through G1-115 | 5
(23) S2R-G10 | G10-143 through G10-165 | 5
(24) S2R-G6 | G6-148 through G6-155 | 5
(25) S2RHG-T34 | T34HG-101 and T34HG-102 | 5
(26) S2R-T15 | T15-034 through T15-040 | 5
(27) S2R-T34 | T34-239 through T34-270 | 5
(28) S2R-T45 | T45-015 | 5
(29) S2R | 5010R, 5031R, 5038R, 5047R, and 5085R | 6

Note 1: The serial numbers of the Model S2R-T15 airplanes could incorporate T15-xxx and T27-xxx. This AD applies to both of these serial number designations as they are both Model S2R-T15 airplanes.

Note 2: The serial numbers of the Model S2R-T34 airplanes could incorporate T34-xxx, T36-xxx, T41-xxx, or T42-xxx. This AD applies to all of these serial number designations as they are all Model S2R-T34 airplanes.

Note 3: Any Group 3 airplane that has been modified with a hopper of a capacity more than 410 gallons, a piston engine greater than 600 horsepower, or any gas turbine engine, makes the airplane a Group 1 airplane for the purposes of this AD. Inspect the airplane at the Group 1 compliance time specified in this AD.

(b) Who must comply with this AD? Anyone who wishes to operate any of the airplanes identified in paragraph (a) of this AD must comply with this AD.

(c) What problem does this AD address? The actions specified by this AD are intended to detect and correct fatigue cracking of the lower spar caps, which could result in the wing separating from the airplane with consequent loss of control of the airplane.

(d) What actions must I accomplish to address this problem? To address this problem, you must accomplish the following:

(1) Repetitively inspect, using magnetic particle, ultrasonic, or eddy current procedures, the ¼-inch and 5/16-inch bolt hole areas on each lower spar cap for fatigue cracking. Reference paragraph (e)(3) and (e)(4) of this AD (including all subparagraphs) to obtain the initial and repetitive inspection compliance times.

(i) The cracks may emanate from the bolt hole on the face of the spar cap or they may occur in the shaft of the hole.

(ii) You must inspect both of these areas.

(iii) If using the magnetic particle method for the inspection, perform the inspection using the “Inspection” portion of the “Accomplishment Instructions” and “Lower Splice Fitting Removal and Installation Instructions” in Ayres Service Bulletin No. SB-AG-39, dated September 17, 1996. You must follow American Society for Testing Materials (ASTM) E 1444-01, using wet particles meeting the requirements of the Society for Automotive Engineers (SAE) AMS 3046. The inspection must be performed by or supervised by a Level 2 or Level 3 inspector certified for magnetic particle inspection method using the guidelines established by the American Society for Nondestructive Testing or MIL-STD-410. CAUTION: You must firmly support the wings during the inspection to prevent movement of the spar caps when the splice blocks are removed. This will allow easier realignment of the splice block holes and the holes in the spar cap for bolt insertion.

(iv) If using ultrasonic or eddy current methods for the inspection, a procedure must be sent to the FAA Atlanta Aircraft Certification Office (ACO) for approval prior to performing the inspection. Send your proposed procedure to the FAA Atlanta Aircraft ACO, Attn: Cindy Lorenzen, One Crown Center, 1895 Phoenix Boulevard, Suite 450, Atlanta, Georgia 30349. You are not required to remove the splice block for either the ultrasonic or eddy current inspections, unless corrosion is visible.

(2) If any cracking is found during any inspection required by this AD, you must accomplish the following:

(i) Repair or replace:

(A) Use the cold work process to ream out small cracks as defined in Ayres Service Bulletin No. SB-AG-39, dated September 17, 1996; or

(B) Ream the ¼-inch bolt holes to 5/16 inches diameter as defined in Part I of Ayres Custom Kit No. CK-AG-29, dated December 23, 1997; or

(C) Install Kaplan Splice Blocks as defined in Quality Aerospace, Inc. Custom Kit No. CK-AG-30, dated December 6, 2001; or

(D) Replace the affected spar cap in accordance with the maintenance manual.

(ii) Submit a report of inspection findings to the Manager, Atlanta ACO, One Crown Center, 1895 Phoenix Boulevard, Suite 450, Atlanta, Georgia 30349; facsimile: (770) 703-6097. You must include:

(A) The airplane serial number and engine model number;

(B) The total number of flight hours on the lower spar cap that is cracked;

(C) Time on the spar cap since last inspection, if applicable;

(D) The procedure (magnetic particle, ultrasonic, or eddy current) used for the last inspection;

(E) Indicate if cold working has been accomplished or modifications incorporated such as installation of big butterfly plates;

(F) Indicate the time on the spar cap when the cold working or modifications were accomplished; and

(G) Indicate which bolt hole is cracked and the length of the crack.

Note 4: Information collection requirements contained in this regulation have been approved by the Office of Management and Budget (OMB) under the provisions of the Paperwork Reduction Act of 1980 (44 U.S.C. 3501 et seq.) and have been assigned OMB Control Number 2120-0056.

(e) What is the compliance time of this AD? The compliance times for each of the actions of this AD are as follows:

(1) Any required repair or replacement: Prior to further flight after the inspection where the crack(s) was/were found.

(2) Reporting requirement:

(i) Submit the report within 10 days after finding any crack(s) during any inspection required by this AD.

(ii) For airplanes where cracking was found during any inspection accomplished in accordance with AD 2000-11-16, which is superseded by this AD; or by AD 97-17-03, which was superseded AD 2000-11-16; or by AD 97-13-11, which was superseded by AD 97-17-03, submit the report within 10 days after May 20, 2003 (the effective date of this AD), unless already accomplished.

(3) Initial inspection: Required unless already accomplished (compliance with AD 2000-11-16, or AD 97-17-03, or AD97-13-11) within 50 flight hours after May 20, 2003 (the effective date of this AD) or upon the accumulation of these hours time-in-service (TIS) on each lower spar cap, whichever occurs later:

Airplane group | Lower spar cap hours TIS
(i) 1 | 2,000
(ii) 2 | 2,200
(iii) 3 | 6,400
(iv) 4 | 2,500
(v) 5 | 6,200
(vi) 6:
| For S/N 5010R: 5,530
| For S/N 5038R: 5,900
| For S/N 5031R: 6,400
| For S/N 5047R: 6,400
| For S/N 5085R: 6,290

(4) Repetitive inspections: The following table gives the required repetitive inspection intervals based on the work performed and the method of inspection utilized. Each time is hours TIS after the last inspection:

Work previously performed | Magnetic particle hours TIS | Ultrasonic hours TIS | Eddy current hours TIS
(i) One of the following where the airplane does not have butterfly plates, part number (P/N) 20211-09 and P/N 20211-11, installed per CK-AG-29, Part II | 500 | 550 | 700
(A) No cracks found previously on wing spar; or
(B) Small cracks repaired through cold work (or done as an option if never cracked) accomplished per SB-AG-39; or
(C) Small cracks repaired through ¼-inch bolt hole reamed to 5/16 inch diameter (or done as an option if never cracked) per CK-AG-29, Part I; or
(D) Small cracks repaired through previous Alternative Methods of Compliance; or
(E) Small cracks repaired by installation of Kaplan Splice Blocks, part number 22515-1-3 or 88-251 (or done as an option if never cracked) per CK-AG-30 and inspection of the six outboard bolt holes on both lower spars is required
(ii) One of the following where the airplane has butterfly plates, part number (P/N) 20211-09 and P/N 20211-11, installed per CK-AG-29, Part II | 900 | 950 | 1,250
(A) No cracks found previously on wing spar; or
(B) Small cracks repaired through cold work (or done as an option if no cracks found) accomplished per SB-AG-39; or
(C) Small cracks repaired through ¼-inch bolt hole reamed to 5/16 inch diameter (or done as an option if no cracks found) per CK-AG-29, Part I; or
(D) Small cracks repaired through previous Alternative Methods of Compliance; or
(E) Small cracks repaired by installation of Kaplan Splice Blocks, part number 22515-1-3 or 88-251 (or done as an option if never cracked) per CK-AG-30 and inspection of the six outboard bolt holes on both lower spar caps is required
(iii) Cracked wing spar found during previous inspection with wing spar replacement | For all inspection methods (magnetic particle, ultrasonic, or eddy current), time for initial and repetitive inspection intervals start over when wing spar is replaced.

Note 5: Aircraft S/Ns T45-007DC and T45-010DC had modified splice block assemblies installed at Ayres (Ayres/Kaplan Assembly No. 88-251) and must still follow the repetitive inspection intervals listed here.

Note 6: If a crack is found, the reaming associated with the cold work process may remove a crack if it is small enough. Some aircraft owners/operators were issued alternative methods of compliance with AD 97-17-03 to ream the ¼-inch bolt hole to 5/16 inch diameter to remove small cracks. Ayres CK-AG-29, Part I, also provides procedures to ream the ¼-inch bolt hole to 5/16 inch diameter. If you use either of these two methods to remove cracks and the airplane is reinspected immediately with no cracks found, you may continue to follow the repetitive inspection intervals listed above.

Note 7: Group 4 and Group 5 airplanes had the butterfly plates installed at the factory and may follow the repetitive inspection interval listed in paragraph (e)(4)(ii).

(f) Can I comply with this AD in any other way?

(1) You may use an alternative method of compliance or adjust the compliance time if:

(i) Your alternative method of compliance provides an equivalent level of safety; and

(ii) The Manager, Atlanta ACO, approves your alternative. Submit your request through an FAA Principal Maintenance Inspector, who may add comments and then send it to the Manager, Atlanta ACO.

(2) Alternative methods of compliance approved in accordance with AD 2000-11-16, which is superseded by this AD, are approved as alternative methods of compliance with this AD.

Note 8: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact Cindy Lorenzen, Aerospace Engineer, FAA, Aircraft Certification Office, One Crown Center, 1895 Phoenix Boulevard, suite 450, Atlanta, Georgia 30349; telephone: (770) 703-6078; facsimile: (770) 703-6097.

(h) What if I need to fly the airplane to another location to comply with this AD? The FAA can issue a special flight permit under sections 21.197 and 21.199 of the Federal Aviation Regulations (14 CFR 21.197 and 21.199) to operate your airplane to a location where you can accomplish the requirements of this AD provided that:

(1) the hopper is empty;

(2) Vne is reduced to 126 miles per hour (109 knots) indicated airspeed (IAS); and

(3) flight into known turbulence is prohibited.

(i) Are any service bulletins incorporated into this AD by reference?

(1) Actions required by this AD must be done in accordance with Ayres Service Bulletin No. SB-AG-39, dated September 17, 1996; Ayres Custom Kit No. CK-AG-29, dated December 23, 1997; and Quality Aerospace, Inc. Custom Kit No. CK-AG-30, dated December 6, 2001.

(i) The Director of the Federal Register approved the incorporation by reference of Quality Aerospace, Inc. Custom Kit No. CK-AG-30, dated December 6, 2001, under 5 U.S.C. 552(a) and 1 CFR part 51. You may get copies from Quality Aerospace, Inc., P.O. Box 3050, Albany, Georgia 31706-3050; telephone: (229) 883-1440; facsimile: (229) 883-9790.

(ii) The Director of the Federal Register previously approved the incorporation by reference of Ayres Service Bulletin No. SB-AG-39, dated September 17, 1996; Ayres Custom Kit No. CK-AG-29, dated December 23, 1997, as of July 25, 2000 (65 FR 36055, June 7, 2000).

(2) You may get copies from Quality Aerospace, Inc., P.O. Box 3050, Albany, Georgia 31706-3050; telephone: (229) 883-1440; facsimile: (229) 883-9790. You may view copies at the FAA, Central Region, Office of the Regional Counsel, 901 Locust, Room 506, Kansas City, Missouri, or at the Office of the Federal Register, 800 North Capitol Street, NW, suite 700, Washington, DC.

(j) Does this AD action affect any existing AD actions? This amendment supersedes AD 2000-11-16, Amendment 39-11764.

(k) When does this amendment become effective? This amendment becomes effective on May 20, 2003.

Issued in Kansas City, Missouri, on March 21, 2003.
Michael Gallagher,
Manager, Small Airplane Directorate, Aircraft Certification Service.

[FR Doc. 03-7454 Filed 3-31-03; 8:45 am]

BILLING CODE 4910-13-P